DEPARTMENT OF TRANSPORTATION

Federal Highway Administration

Environmental Impact Statement: Los Angeles County, California

AGENCY: Federal Highway Administration (FHWA).

ACTION: Notice of Intent.

SUMMARY: The FHWA, on behalf of the California Department of Transportation (Caltrans), is issuing this notice to advise the public that a Draft Environmental Impact Statement will be prepared for a proposed highway improvement project on Interstate 710 (Ocean Boulevard to State Route 60—a distance of approximately 18 miles) in Los Angeles County, California.

FOR FURTHER INFORMATION CONTACT: Ronald Kosinski, Deputy District Director, Division of Environmental Planning, District 7, 100 South Main Street, Suite 100, Los Angeles, CA 90012, (213) 897-0703.

SUPPLEMENTARY INFORMATION: Effective July 1, 2007, the Federal Highway Administration (FHWA) assigned, and the California Department of Transportation (Caltrans) assumed environmental responsibilities for this project pursuant to 23 U.S.C. 327. Caltrans will prepare an Environmental Impact Statement (EIS) on a proposal to for constructing freeway improvements to Interstate 710 (I-710) from Ocean Boulevard to State Route 60 in Los Angeles County, California. The project consists of improving I-710 to accommodate a freight movement corridor and/or general purpose lanes. Depending on the alternative selected, the project may also include modifications to the I-405, State Route 91, I-105, State Route 60, and I-5 interchanges. A Major Corridor Study (MCS) for the project was completed in March 2005. It identified ten general purpose lanes next to a separated four-lane freight movement facility as the Locally Preferred Strategy (LPS).

The purpose of the proposed project is to (1) Improve air quality and public health, (2) improve traffic safety, (3) address design deficiencies, (4) address projected traffic volumes, (5) address projected growth in population, employment, and economic activities related to goods movement.

Alternatives under consideration include:

• No Build.

• Transportation Systems Management/Transportation Demand Management (TSM/TDM) and Transit—may include up to eight new ramp meters, improved signage, parking restrictions on major arterials, empty container management through policies and incentives, implementation of truck emission/safety enforcement facilities, expanded public transportation, and an expanded Intelligent Transportation System (ITS) to include entire study area.

• Alternative Goods Movement Technology.

• Arterial Highway and I-710 Congestion Relief Improvements.

• I-710 Mainline Improvements.

○ Option A—10 general-purpose lanes with no carpool lanes.

○ Option B—eight general-purpose lanes with one carpool lane in each direction (total of 10).

• Locally Preferred Strategy Hybrid Design (I-710 Mainline Improvements with the addition of a separated four lane freight movement facility)—Includes ten general purpose lanes next to a separated four lane freight movement facility from the Ports of Los Angeles and Long Beach (Ocean Boulevard) to the UP and BNSF intermodal yards southeast of the I-710/I-5 interchange. This alternative is a community-based recommendation from the previous I-710 Major Corridor Study: Major Opportunity /Strategy Recommendations and Conditions.

These basic alternatives will have additional design variations, which provide optional lane use (general purpose, High Occupancy Vehicle, Transportation Systems Management), optional on and off ramp modifications, and other engineering details. These alternatives may be refined, combined with various different alternatives, or be removed from further consideration, as more analysis is conducted on the project alternatives.

Analysis supporting the EIS will determine the type of facility necessary to meet the existing and future transportation needs in the corridor.

The following permits may be required to construct the proposed project:

• U.S. Army Corps of Engineers Section 404 permit.

• Section 401 Water Quality Certification from the California Regional Water Quality Control Board.

• 1602 Streambed Alteration Agreement from the California Department of Fish and Game.

• Incidental take permit from the United States Fish and Wildlife Service (USFWS).

• Incidental take permit from the National Oceanic and Atmospheric Administration (NOAA) Fisheries.

• State Coastal Development Permit.

• Federal Coastal Zone Management Act Consistency Determination.

• Encroachment permits from the various cities in which project construction would occur.

Caltrans is holding public scoping meetings to provide an overview of the project, summary of the environmental process and issues addressed, and receive input regarding environmental issues and the suggested scope and content of the EIR. An Agency Scoping Meeting will be held on September 10, 2008 from 2 p.m. to 4 p.m., followed by a Public Scoping Meeting from 6:30 p.m. to 8:30 p.m. at Progress Park in the City of Paramount. Two additional Public Scoping Meetings will be held on September 9, 2008 at Rowen Elementary School in East L.A. and September 11, 2008 at Cabrillo High School in Long Beach from 6:30 to 8:30 p.m.

Letters describing the proposed action and soliciting comments will be sent to appropriate Federal, State, Participating Agencies, tribal governments and local agencies, and to private organizations and citizens who have previously expressed or are known to have interest in this proposal. It is anticipated that the Draft EIS will be available for public and agency review and comment in mid-2010. Public meetings will be held in study area communities in the summer of 2010. In addition, public hearings will be held. Public notice will be given for the time and place of the public meetings and hearings. The EIS will be available for public and agency review and comment prior to the public hearing.

To ensure that the full range of issues related to this proposed action is addressed and all significant concerns are identified, comments and suggestions are invited from all interested parties. Comments or questions about this proposed action and the EIS should be directed to Caltrans at the address provided above.

(Catalog of Federal Domestic Assistance Program Number 20.205, Highway Planning and Construction. The regulations implementing Executive Order 12372 regarding intergovernmental consultation on Federal programs and activities apply to this program.)

Nancy E. Bobb,
Director, State Programs, Federal Highway Administration, Sacramento, California.

[FR Doc. E8-19247 Filed 8-19-08; 8:45 am]

BILLING CODE 4910-22-P